Proclamation 10486 of October 31, 2022

National Diabetes Month, 2022

By the President of the United States of America

A Proclamation

This month, we acknowledge more than 37 million Americans living with diabetes who inspire us to develop better treatment options, make life-saving medicines more affordable, and finally find a cure for this disease.

Over 10 percent of Americans have Type 1, Type 2, or gestational diabetes, and tens of millions more remain at risk of developing this chronic condition. While the scientific community has made strides over the past several decades to help patients manage symptoms, too many loved ones must still contend with the daily challenge of managing blood sugar levels, the dangers of long-term health complications, and the frustration of being diagnosed with a disease that has yet to be cured. Despite it costing only $10 to manufacture a vial of insulin, drug companies can charge more than 30 times that, leaving families struggling to pay for life-saving medicine. The inability to afford vital treatment not only deprives people of a healthy existence but also of their dignity. This is especially true for people of color, who have higher rates of diabetes.

Health care should be a right, not a privilege. That is the America we are building. In August, after decades of big pharmaceutical companies blocking meaningful change, I signed the Inflation Reduction Act into law, which caps the cost of a month's supply of insulin at $35 per prescription for over 3 million seniors on Medicare. I am committed to lowering the cost of insulin for everyone, including hundreds of thousands of children with Type 1 diabetes. In March, I secured $1 billion in bipartisan funding from the Congress to create the Advanced Research Project Agencies for Health (ARPA-H) to drive medical breakthroughs in prevention, detection, and treatment of diabetes and other diseases. Modeled after the Defense Advanced Research Projects Agency (DARPA) that made pivotal discoveries leading to the invention of the internet, GPS, and so much more, ARPA-H will help our Nation pursue bold, audacious, and life-saving advances that improve the health and well-being of every American.

In September, my Administration also convened the first White House Conference on Hunger, Nutrition, and Health in over 50 years and set a goal to end hunger and reduce diet-related diseases, like diabetes, by 2030 while also continuing to reduce the health disparities that persist in underserved communities. My Administration released the White House National Strategy on Hunger, Nutrition, and Health, which focuses on improving food access and affordability, integrating nutrition and health, empowering consumers to make and have access to healthy choices, supporting physical activity for all, and enhancing nutrition and food insecurity research. In this strategy, we commit to better preventing and managing diabetes, expanding access to nutrition counseling, and working with the Congress to make the Medicare Diabetes Prevention Program permanent and cost-effective.

I have also taken steps to strengthen the Affordable Care Act, which connects people with vital screening and services for diabetes and related health issues. I am making the newest and most effective COVID-19 vaccines accessible to all Americans, which will save lives—particularly for people living with diabetes who are often more vulnerable to the worst effects of COVID-19. Throughout this work, my Administration is also determined to provide equal access to health care to those who are disproportionately affected by diabetes and often are least likely to receive the support they need, including Black, Brown, and Native Americans.

During National Diabetes Month, my Administration continues the fight to lower the cost of lifesaving insulin for families so that no parent is forced to ration vital medication and no child needs to skip dosages because basic treatment is unaffordable. We offer gratitude to the dedicated medical professionals, researchers, advocates, and caregivers who support loved ones living with diabetes and bring us closer to ending this disease once and for all. We stand by every American diagnosed with diabetes, honor their strength and resolve, and commit to helping them live full and healthy lives.

NOW, THEREFORE, I, JOSEPH R. BIDEN JR., President of the United States of America, by virtue of the authority vested in me by the Constitution and the laws of the United States, do hereby proclaim the month of November 2022 as National Diabetes Month. I call upon all Americans, school systems, government agencies, nonprofit organizations, health care providers, research institutions, and other interested groups to join in activities that raise diabetes awareness and help prevent, treat, and manage this disease.

IN WITNESS WHEREOF, I have hereunto set my hand this thirty-first day of October, in the year of our Lord two thousand twenty-two, and of the Independence of the United States of America the two hundred and forty-seventh.

[FR Doc. 2022-24162

Filed 11-2-22; 11:15 am]

Billing code 3395-F3-P